DEPARTMENT OF ENERGY

Federal Energy Regulatory Commission

Combined Notice of Filings #1

Take notice that the Commission received the following electric rate filings:

Docket Numbers: ER15-1471-011; ER10-1874-012; ER10-2721-010; ER10-2861-009; ER12-1308-012; ER13-1504-010; ER15-1672-010; ER16-2010-005; ER16-2561-005; ER16-711-008; ER16-915-004; ER19-2287-002; ER19-2289-002; ER19-2294-002; ER19-2305-002; ER19-9-006.

Applicants: Blue Sky West, LLC, Comanche Solar PV, LLC, El Paso Electric Company, Evergreen Wind Power II, LLC, Fountain Valley Power, L.L.C., Goal Line L.P., Hancock Wind, LLC, KES Kingsburg, L.P., Mankato Energy Center, LLC, Mankato Energy Center II, LLC, Mesquite Power, LLC, Palouse Wind, LLC, Pio Pico Energy Center, LLC, Sunflower Wind Project, LLC, SWG Arapahoe, LLC, Valencia Power, LLC.

Description: Notice of Non-Material Change in Status of Blue Sky West, LLC, et al.

Filed Date: 1/19/21.

Accession Number: 20210119-5245.

Comments Due: 5 p.m. ET 2/9/21.

Docket Numbers: ER15-632-011; ER14-2140-011; ER14-2141-011; ER14-2465-012; ER14-2466-012; ER14-2939-009; ER15-1952-009; ER15-2728-011; ER15-634-011.

Applicants: CID Solar, LLC, Cottonwood Solar, LLC, RE Columbia Two, LLC, RE Camelot, LLC, Pavant Solar, LLC, Imperial Valley Solar Company (IVSC) 2, LLC, Maricopa West Solar PV, LLC, Mulberry Farm, LLC, Selmer Farm, LLC.

Description: Notice of Non-Material Change in Status of Dominion Companies.

Filed Date: 1/19/21.

Accession Number: 20210119-5250.

Comments Due: 5 p.m. ET 2/9/21.

Docket Numbers: ER16-505-006.

Applicants: GridLiance High Plains LLC.

Description: Compliance filing: Gridliance HP Supplemental Compliance Filing ER15-2594 to be effective N/A.

Filed Date: 1/19/21.

Accession Number: 20210119-5163.

Comments Due: 5 p.m. ET 2/9/21.

Docket Numbers: ER20-1505-003.

Applicants: Basin Electric Power Cooperative, Inc.

Description: Notice of Change in Status of Basin Electric Power Cooperative.

Filed Date: 1/19/21.

Accession Number: 20210119-5244.

Comments Due: 5 p.m. ET 2/9/21.

Docket Numbers: ER21-786-001.

Applicants: Trans Bay Cable LLC.

Description: Tariff Amendment: Revisions to the Annual TRBAA Filing 2020 to be effective 1/1/2021.

Filed Date: 1/21/21.

Accession Number: 20210121-5239.

Comments Due: 5 p.m. ET 2/11/21.

Docket Numbers: ER21-916-000.

Applicants: PJM Interconnection, L.L.C.

Description: § 205(d) Rate Filing: Amendment to ISA/ICSA; Queue No. AC1-068 to be effective 1/28/2019.

Filed Date: 1/21/21.

Accession Number: 20210121-5004.

Comments Due: 5 p.m. ET 2/11/21.

Docket Numbers: ER21-917-000.

Applicants: PJM Interconnection, L.L.C.

Description: § 205(d) Rate Filing: Amendment to ISA/CSA, SA Nos. 5920 and 5308; Queue No. AC1-069 to be effective 1/28/2019.

Filed Date: 1/21/21.

Accession Number: 20210121-5005.

Comments Due: 5 p.m. ET 2/11/21.

Docket Numbers: ER21-918-000.

Applicants: PJM Interconnection, L.L.C.

Description: § 205(d) Rate Filing: Amendment to ISA/CSA, SA Nos. 5291 and 5312 ; Queue No. AC1-165 to be effective 1/28/2019.

Filed Date: 1/21/21.

Accession Number: 20210121-5006.

Comments Due: 5 p.m. ET 2/11/21.

Docket Numbers: ER21-919-000.

Applicants: PJM Interconnection, L.L.C.

Description: § 205(d) Rate Filing: Amendment to ISA/CSA, SA Nos. 5409 and 5410 ; Queue No. AC1-166 to be effective 5/15/2019.

Filed Date: 1/21/21.

Accession Number: 20210121-5007.

Comments Due: 5 p.m. ET 2/11/21.

Docket Numbers: ER21-920-000.

Applicants: Midcontinent Independent System Operator, Inc.

Description: § 205(d) Rate Filing: 2021-01-21_Demand Response Testing Deferral and Collateral Handling to be effective 3/23/2021.

Filed Date: 1/21/21.

Accession Number: 20210121-5090.

Comments Due: 5 p.m. ET 2/11/21.

Docket Numbers: ER21-921-000.

Applicants: Midcontinent Independent System Operator, Inc.

Description: § 205(d) Rate Filing: 2021-01-21_SA 3634 Certificate of Concurrence LGE-KU-BREC 1st Rev IA to be effective 12/31/2020.

Filed Date: 1/21/21.

Accession Number: 20210121-5096.

Comments Due: 5 p.m. ET 2/11/21.

Docket Numbers: ER21-922-000.

Applicants: Entergy Mississippi, LLC.

Description: Tariff Cancellation: EML-TVA WDS Agreement Cancellation to be effective 11/1/2020.

Filed Date: 1/21/21.

Accession Number: 20210121-5116.

Comments Due: 5 p.m. ET 2/11/21.

Docket Numbers: ER21-923-000.

Applicants: Southwest Power Pool, Inc.

Description: Tariff Cancellation: Notice of Cancellation of Tariff ID 3292-Western Energy Imbalance Service Tariff to be effective 2/1/2021.

Filed Date: 1/21/21.

Accession Number: 20210121-5117.

Comments Due: 5 p.m. ET 2/11/21.

Docket Numbers: ER21-924-000.

Applicants: Southwest Power Pool, Inc.

Description: Tariff Cancellation: Notice of Cancellation of Tariff ID 3310-WEIS Rate Schedule Tariff to be effective 2/1/2021.

Filed Date: 1/21/21.

Accession Number: 20210121-5122.

Comments Due: 5 p.m. ET 2/11/21.

Docket Numbers: ER21-925-000.

Applicants: Southwest Power Pool, Inc.

Description: § 205(d) Rate Filing: Corrections to Schedule 1 to be effective 4/1/2021.

Filed Date: 1/21/21.

Accession Number: 20210121-5189.

Comments Due: 5 p.m. ET 2/11/21.

Take notice that the Commission received the following electric securities filings:

Docket Numbers: ES21-27-000.

Applicants: The Empire District Electric Company.

Description: Application Under Section 204 of the Federal Power Act for Authorization to Issue Securities of The Empire District Electric Company.

Filed Date: 1/19/21.

Accession Number: 20210119-5237.

Comments Due: 5 p.m. ET 2/9/21.

Take notice that the Commission received the following public utility holding company filings:

Docket Numbers: PH21-6-000.

Applicants: IIF US Holding 2 GP, LLC.

Description: IIF US Holding 2 GP, LLC submits FERC-65-A Notice of Non-Material Change in Fact to Waiver Notification.

Filed Date: 1/19/21.

Accession Number: 20210119-5243.

Comments Due: 5 p.m. ET 2/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2021.
Nathaniel J. Davis, Sr.,
Deputy Secretary.

[FR Doc. 2021-01757 Filed 1-26-21; 8:45 am]

BILLING CODE 6717-01-P